DEPARTMENT OF TRANSPORTATION

Federal Aviation Administration

14 CFR Part 39

[Docket No. FAA-2023-1893; Project Identifier AD-2023-00389-A]

RIN 2120-AA64

Airworthiness Directives; FS 2001 Corp, FS 2002 Corporation, FS 2003 Corporation, Piper, and Piper Aircraft, Inc. Airplanes

AGENCY: Federal Aviation Administration (FAA), DOT.

ACTION: Notice of proposed rulemaking (NPRM); extension of comment period.

SUMMARY: This document announces an extension of the comment period for the referenced NPRM, which proposed the adoption of a new airworthiness directive (AD) for certain FS 2001 Corp, FS 2002 Corporation, FS 2003 Corporation, Piper, and Piper Aircraft, Inc. (Piper) airplanes. This NPRM invited comments concerning the proposed requirement of replacing any rudder equipped with a rudder post made from a certain carbon steel with a rudder equipped with a rudder post made from a certain low-alloy steel. This extension of the comment period is necessary to provide all interested persons an opportunity to present their views on the proposed requirements of this NPRM.

DATES: The comment period for the NPRM published on October 6, 2023, at 88 FR 69556, and scheduled to close on November 20, 2023, is extended until February 20, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2023-1893; or in person at Docket Operations between 9 a.m. and 5 p.m., Monday through Friday, except Federal holidays. The AD docket contains this NPRM, any comments received, and other information. The street address for Docket Operations is listed above.

FOR FURTHER INFORMATION CONTACT: Joseph Zuklic, Aviation Safety Engineer, FAA, 2200 South 216th Street, Des Moines, WA 98198; phone: (206) 231-3858; email: joseph.r.zuklic@faa.gov.

SUPPLEMENTARY INFORMATION:

Comments Invited

The FAA invites you to send any written relevant data, views, or arguments about this proposal. Send your comments to an address listed under ADDRESSES. Include “Docket No. FAA-2023-1893; Project Identifier AD-2023-00389-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Joseph Zuklic, Aviation Safety Engineer, FAA, 2200 South 216th Street, Des Moines, WA 98198. Any commentary that the FAA receives which is not specifically designated as CBI will be placed in the public docket for this rulemaking.

Background

The FAA issued an NPRM to amend 14 CFR part 39 by adding an AD that would apply to certain FS 2001 Corp, FS 2002 Corporation, FS 2003 Corporation, Piper, and Piper Aircraft, Inc. (Piper) airplanes, as listed in the NPRM. The NPRM published in the Federal Register on October 6, 2023 (88 FR 69556). The NPRM was prompted by reports of two non-fatal accidents involving airplanes designed and built by Piper that were caused by broken rudder posts that structurally failed above the upper hinge in flight. Both accidents occurred in Anchorage, Alaska. The first accident occurred on June 8, 2020, and involved an FS 2003 Model PA-12 airplane and the second accident occurred on July 23, 2021, and involved an FS 2002 Model PA-14 airplane. Both airplanes sustained substantial damage when the rudder structurally failed. After examination, it was determined that the rudder posts fractured above the upper hinge, the top portion of the rudder folded over the upper tail brace wires, and the rudder posts were made from 1025 carbon steel and fractured due to fatigue. This condition, if not addressed, could result in a broken rudder and consequent reduced ability of the flight crew to maintain the safe flight and landing of the airplane.

In the NPRM, the FAA proposed to require replacing any rudder equipped with a rudder post made from 1025 carbon steel with a rudder equipped with a rudder post made from 4130N low-alloy steel.

Actions Since the NPRM Was Issued

Since issuance of the NPRM, the FAA has received a request from the Airplane Owners and Pilots Association (AOPA), the Short Wing Piper Club, and other commenters to extend the comment period. The commenters state that the NPRM is controversial and could drive substantial costs, among other things. To be able to prepare informed and meaningful comments with coordinated consensus among its members, AOPA requested an extension of 90 days to the comment period.

The FAA agrees with the request and has determined that it is appropriate to extend the comment period for the NPRM to give all interested persons additional time to examine the proposed requirements and submit comments. The FAA has determined that extending the comment period an additional 90 days will not compromise the safety of the affected airplanes.

Extension of Comment Period

The FAA has reviewed the requests for extension of the comment period for this notice. The commenters have shown a substantive interest in the proposed policy and good cause for the extension of the comment period. Therefore, in accordance with 14 CFR 11.47(c), the FAA has determined that an extension of the comment period for an additional 90 days to February 20, 2024 is consistent with the public interest, and that good cause exists for taking this action.

Accordingly, the comment period for Docket No. FAA-2023-1893 is extended until February 20, 2024.

Because no other portion of the proposal or other regulatory information has been changed, the entire proposal is not being republished.

Issued under authority provided by 49 U.S.C. 106(g), 40113, and 44701.
Issued on November 16, 2023.
Caitlin Locke,
Director, Compliance & Airworthiness Division, Aircraft Certification Service.

[FR Doc. 2023-25700 Filed 11-16-23; 4:15 pm]

BILLING CODE 4910-13-P